ENVIRONMENTAL PROTECTION AGENCY

40 CFR Part 52

[EPA-R09-OAR-2011-0492; FRL-9757-1]

Approval and Promulgation of Implementation Plans; California; Determinations of Attainment for the 1997 8-Hour Ozone Standard

AGENCY: Environmental Protection Agency (EPA).

ACTION: Final rule.

SUMMARY: EPA is making a number of determinations relating to 1997 8-hour ozone nonattainment areas in California. First, EPA is determining that six 8-hour ozone nonattainment areas in California (Amador and Calaveras Counties, Chico, Kern County, Mariposa and Tuolumne Counties, Nevada County, and Sutter County) (“six CA areas”) attained the 1997 8-hour ozone national ambient air quality standard (NAAQS) by their applicable attainment dates. Second, in conjunction with its determinations for Mariposa and Tuolumne Counties and Nevada County, EPA is granting these areas one-year attainment date extensions. Lastly, EPA is determining that the six CA areas and the Ventura County 8-hour ozone nonattainment area in CA have attained and continue to attain the 1997 8-hour ozone NAAQS based on the most recent three years of data. Under the provisions of EPA's ozone implementation rule, these determinations suspend the requirements to submit revisions to the state implementation plans (SIP) for these areas related to attainment of the 1997 8-hour ozone standard for as long as these areas continue to meet the 1997 8-hour ozone NAAQS.

DATES: Effective Date: This rule is effective on January 2, 2013.

ADDRESSES: EPA has established a docket for this action under Docket Identification No. EPA-R09-OAR-2011-0492. The index to the docket is available electronically at www.regulations.gov and in hard copy at EPA Region 9, 75 Hawthorne Street, San Francisco, California. While all documents in the docket are listed in the index, some may be publicly available only at the hard copy location (e.g., copyrighted material) and some may not be publicly available at either location (e.g., confidential business information). To inspect the hard copy materials, please schedule an appointment during normal business hours with the contact listed in the FOR FURTHER INFORMATION CONTACT section below.

FOR FURTHER INFORMATION CONTACT: John Ungvarsky, Air Planning Office, AIR-2, EPA Region IX, 75 Hawthorne Street, San Francisco, CA 94105-3901, telephone number (415) 972-3963, or email ungvarsky.john@epa.gov.

SUPPLEMENTARY INFORMATION: Throughout this document, wherever “we”, “us” or “our” are used, we mean EPA. We are providing the following outline to aid in locating information in this final rule.

Table of Contents

I. What determinations is EPA making?

II. What is the background for these actions?

III. What comments did we receive on the proposed rule?

IV. What are the effects of these actions?

A. Attainment Date Extensions

B. Determinations of Attainment by Areas' Applicable Attainment Dates

C. Determinations of Current Attainment and 40 CFR 51.918

V. EPA's Final Actions

VI. Statutory and Executive Order Reviews

I. What determinations is EPA making?

EPA is making a number of determinations with respect to 1997 8-hour ozone nonattainment areas in California. First, pursuant to section 181(b)(2) of the Clean Air Act (CAA), EPA is determining that the Amador and Calaveras Counties (Central Mountain Counties), Chico (Butte County), Kern County (Eastern Kern), Mariposa and Tuolumne Counties (Southern Mountain Counties), Nevada County (Western Nevada County), and Sutter County (Sutter Buttes) 8-hour ozone nonattainment areas in California (herein referred to as the “six CA areas”) attained the 1997 8-hour ozone NAAQS by their respective applicable attainment dates. Second, in connection with these determinations, EPA is also granting, pursuant to section 181(a)(5) and 40 CFR 51.907, applications submitted by the California Air Resources Board (CARB) for extensions to the applicable attainment dates for the Southern Mountain Counties and Western Nevada County nonattainment areas.

The six CA areas have differing applicable attainment dates. For Butte County and Sutter Buttes, EPA is determining that these areas attained the 1997 8-hour ozone standard by their applicable attainment deadline of June 15, 2007, based on complete, quality-assured, and certified ambient air quality monitoring data for 2004-2006. For the Central Mountain Counties and Eastern Kern ozone nonattainment areas, EPA is determining that they attained the 1997 8-hour ozone standard by their applicable attainment deadline of June 15, 2010, based on complete, quality-assured and certified air quality data for 2007-2009. For the Southern Mountain Counties and Western Nevada County, whose original attainment date was June 15, 2010, EPA is granting a one-year attainment date extension until June 15, 2011 and determining that these areas attained the 1997 8-hour ozone NAAQS by that extended attainment date, based on complete, quality-assured data for 2008-2010.

In addition, for all the areas listed above and for Ventura County,¹ EPA is determining, based on complete, quality-assured and certified air quality monitoring data for 2009-2011, that these areas have attained and continue to attain the 1997 8-hour ozone NAAQS. Preliminary data for 2012 indicate that these areas continue to attain the NAAQS. Under the provisions of 40 CFR 51.918, these latter determinations suspend the obligation of the State to submit certain planning requirements related to attainment for as long as the areas continue to attain the standard.

¹ Ventura County is classified as a “serious” nonattainment area for the 1997 8-hour ozone standard. As such, the applicable attainment date for Ventura County is June 15, 2013.

II. What is the background for these actions?

On September 14, 2012, EPA published in the Federal Register a direct final rule (77 FR 56775) that made the same determinations for the same areas addressed in today's final rule. On that same date, we also published a document (77 FR 56797) that was to serve as the proposed rule addressing the same actions as the direct final rule if we were to withdraw the direct final rule in response to receipt of adverse comments.

In our direct final rule, we provided background for these actions by describing the 1997 8-hour ozone NAAQS (0.08 parts per million averaged over an eight-hour time frame), the designations and classifications of the six CA areas and Ventura County with respect to the 1997 8-hour ozone NAAQS (see Table 1 from the direct final rule), and the statutory and regulatory provisions that allow EPA to grant attainment date extensions and that act to suspend attainment-related SIP submittal obligations. In the direct final rule, we also describe the basis upon which we evaluate whether an area has attained the 1997 8-hour ozone standard, and present area-specific monitoring network information and data in support of our conclusions: That two of the six CA areas—the Southern Mountain Counties and Western Nevada County—qualified for one-year extensions of their applicable attainment dates; that the six CA areas attained by their respective attainment dates, that all six CA areas and Ventura County have attained the NAAQS based on the most recent complete three-year monitoring period (2009-2011); and that the most recent available ambient data for 2012 are consistent with continued attainment of the standard. Lastly, we explained how, under 40 CFR 51.918, the determinations of attainment based upon the most recent three-year period (2009-2011) suspend attainment-related SIP submittal obligations for these areas with respect to the 1997 8-hour ozone standard for so long as the areas continue to attain the standard, although the areas remain designated nonattainment until they are redesignated to attainment. Please see the direct final rule for detailed information concerning the subject areas, ozone monitoring networks and data, and our review and evaluation.

In our direct final rule, we indicated that, if we received adverse comments, then we would publish a withdrawal in the Federal Register informing the public that the direct final rule will not take effect. We received such adverse comments and have withdrawn the direct final rule. See 77 FR 66715 (November 7, 2012). In our direct final rule, we stated that EPA would respond to comments received on the proposed rule, but that we would not institute a second comment period. In this final rule and in responding to comments, we continue to rely on the information and analysis that were set forth in the direct final rule.

III. What comments did we receive on the proposed rule?

First, EPA received one anonymous comment that generally supports the proposed actions, while emphasizing the need for continued monitoring for the ozone standard. Second, and with respect only to EPA's proposed determination for the Central Mountain Counties, EPA also received two adverse comment letters from one individual. These were submitted on behalf of the Ione Valley Land, Air, and Water Defense Alliance (“Ione Valley Alliance”), and expressed concern over the proposed determination related to a portion (Amador County) of the Central Mountain Counties area (Amador and Calaveras Counties). See letters, Douglas Carstens, September 10 and October 3, 2012. EPA received no adverse comments with respect to its determinations for any of the other CA areas in its direct final and proposed rulemakings. The general, supportive anonymous comment and the two comments related to Amador County are summarized and addressed below.

Comment 1: The anonymous commenter states that he/she generally agrees with our proposed determinations and the related suspension of the obligation to submit attainment-related SIP planning requirements, but emphasizes the need to continue ambient monitoring to ensure that the standard is maintained and to avoid the return of excessive ozone levels.

Response 1: We agree that continued ambient air monitoring by CARB and the individual air districts (where applicable) in the seven nonattainment areas that are the subject of this action is necessary to ensure that continuing attainment of the 1997 8-hour ozone standard is verified. While our final determinations will suspend certain attainment-related SIP submittal requirements, they will not suspend any monitoring-related requirements and CARB and the local air districts (where applicable) will continue to be required to operate ozone monitoring networks in compliance with EPA monitoring regulations.

Lastly, as described in our direct final rule, the suspension of attainment-related SIP requirements continues only until such time, if any, that EPA (i) redesignates the area to attainment at which time those requirements no longer apply, or (ii) subsequently determines that the area has violated the 1997 8-hour ozone NAAQS. If EPA subsequently determines, after notice-and-comment rulemaking, that any one of the nonattainment areas has violated the 1997 8-hour ozone NAAQ, the basis for the suspension of the requirements for that area, provided by 40 CFR 51.918, would no longer exist, and the violating ozone nonattainment area would thereafter have to address those requirements. See 77 FR 56775, at 56778 (September 14, 2012).

Comment 2: The Ione Valley Alliance objects to our proposed determination of attainment for Amador County and contends that Amador County has not implemented sufficient measures that will ensure that it can maintain attainment status.

Response 2: Amador County is part of a two-county 1997 8-hour ozone nonattainment area that, together with Calaveras County, is referred to as “Central Mountain Counties.” As to the Central Mountain Counties area, we are finalizing our proposed determination of attainment by the applicable attainment date (i.e., June 15, 2010 for this area) based on 2007-2009 data, as well as our separate proposed determination that the area currently attains the standard based on the most recent three-year monitoring period (2009-2011). See pages 56779 and 56780 from our September 14, 2012 direct final rule. We have made these determinations after reviewing the complete, quality-assured data from the ozone monitoring station located in Jackson, California, which is the county seat of Amador County. As shown in Table 3 in the direct final rule (page 56780), the design value based on the data from the Jackson monitoring site was 0.080 ppm during the 2007-2009 period and 0.071 ppm during the 2009-2011 period. These values show levels in the area that are well below the 1997 8-hour ozone NAAQS.² Moreover, the preliminary ozone data available for 2012 indicate that the area continues to attain the standard.

² Design values less than or equal to 0.084 ppm represent attainment of the 1997 eight-hour ozone standard.

EPA's determinations of attainment for the Amador and Calaveras Counties area are solely based on complete, quality-assured air monitoring data. EPA's review of these data does not involve any evaluation of the sufficiency of the measures adopted for the area to maintain the NAAQS, and it is not dependent on any conclusions regarding those measures. Thus the comments of Ione Valley Alliance are not germane to the action we are taking today, i.e., determinations based solely on air quality data. CAA Section 181(b)(2) expressly provides that a determination that an area has attained by its attainment date is “based on the area's design value (as of the attainment date).” Similarly, EPA's determination that the area continues currently to attain the standard is based entirely on data establishing the area's design value for the most recent three years. The commenter does not challenge these air quality determinations themselves. Moreover, since our determinations of attainment for Central Mountain Counties are based solely on air quality, they do not constitute a redesignation of the area to attainment. In order for EPA to redesignate an area to attainment, EPA must, among other criteria, determine that the improvement in air quality is due to permanent and enforceable reductions in emissions resulting from implementation of the SIP and applicable Federal air pollution control regulations. To approve a redesignation to attainment, EPA must also review and approve a maintenance plan that covers the first ten years beyond redesignation. See CAA sections 107(d)(3)(E)(iii) and (iv) and section 175A. At this time, California has not submitted a redesignation request or maintenance plan for Central Mountain Counties. EPA again notes that, under 40 CFR section 51.918, EPA's determination that the area is currently attaining the standard based on the most recent three years of data will be withdrawn if, after notice-and-comment rulemaking, EPA determines that the area is once again in violation of the standard.

Comment 3: The Ione Valley Alliance contends that EPA's issuing of a blanket attainment ruling without public notice and comment during a formal rulemaking process may inappropriately expose the County to overdevelopment without sufficient oversight to ensure meaningful measures are implemented to maintain attainment status. In support of this contention, Ione Valley Alliance enclosed, with its September 10, 2012 comment letter, a copy of a letter the Alliance sent to the Amador County Air Pollution Control District (APCD) regarding a Public Records Act request and a request for notices related to a specific quarry project, General Plan Amendment and related environmental impact report.

Response 3: EPA has addressed the commenter's claims as to lack of notice and opportunity to comment by withdrawing our direct final rule in response to receipt of adverse comments and by fully responding to the comments in this final rule, which is based on EPA's proposed rule, published the same day (September 14, 2012) as our direct final rule.

Second, as to the concern the commenter expressed regarding the risk of overdevelopment without sufficient oversight, EPA's determinations today, which derive solely from ambient ozone monitoring data, do not in and of themselves affect development in the county. The determination that the area attained the standard by its attainment date fulfills EPA's statutory obligation under section 181(b)(2). Our determination that the area is currently attaining the standard based on the most recent three years of quality-assured monitoring data reflects the reality of recent air quality in the area. It does not redesignate the area to attainment status, or relax control requirements. Pursuant to 40 CFR 51.918, the determination has the effect of suspending only those SIP submittal requirements related to attainment, but the suspension of these requirements lasts only for so long as the area continues to attain the 1997 8-hour ozone NAAQS. As explained generally on page 56778 of the direct final rule with respect to all of the subject areas, if EPA subsequently determines, after notice-and-comment rulemaking, that the Central Mountain Counties area has violated the 1997 8-hour ozone NAAQS, the basis for the suspension of the requirements for that area would no longer exist, and the area would thereafter have to address those requirements.

Lastly, as noted above, the enclosure sent with the September 10th comment letter is a letter to the Amador County APCD containing a Public Records Act Request and a request for notices related to a quarry project and related Environmental Impact Report (EIR) prepared under the State's California Environmental Quality Act (CEQA). The letter to Amador County APCD also asserts that the EIR prepared by Amador County is deficient and cannot be relied upon by the APCD in issuing permits to project-related emissions sources; that the project would violate certain APCD rules and regulations; that the emissions from the project would be significant; that sensitive receptors in the area would be adversely affected; that feasible, less damaging alternatives are available; and that the permit applications therefore must be denied.

The contents of the letter to the Amador County APCD are not germane to today's determinations because today's determinations are based solely on ambient air quality data, and the comments do not challenge the data or EPA's review and evaluation of the data. In addition, EPA's action today does not change the status of Amador County as nonattainment with respect to the 1997 8-hour ozone standard nor would it affect the permit requirements for the quarry project. Rather, our action today simply suspends attainment-related SIP submittal requirements so long as the area continues to monitor attainment of the 1997 8-hour ozone standard.

Comment 4: The Ione Valley Alliance believes that the attainment determination does not change the designation of Amador County and that the status of the area continues to be “nonattainment” until official action is taken to change that designation.

Response 4: We agree that the neither the determination of attainment by the applicable attainment date, nor the determination of attainment based on the most recent three-year period, for the Central Mountain Counties area changes the designation or classification of the area with respect to the 1997 8-hour ozone NAAQS. Central Mountain Counties will remain “moderate” nonattainment for the 1997 8-hour ozone standard until EPA takes final action to approve a maintenance plan for the area and a request to redesignate the area to attainment under CAA section 107(d)(3)(E). No such maintenance plan or redesignation request is pending before EPA at the present time for the Central Mountain Counties 8-hour ozone nonattainment area.

IV. What are the effects of these actions?

A. Attainment Date Extensions

Pursuant to CAA section 181(a)(5) and 40 CFR 51.907, the State has requested, and EPA is approving one-year attainment date extensions, until June 15, 2011, for the Southern Mountain Counties and Western Nevada County nonattainment areas. The effect of granting the attainment date extensions is to extend the 1997 8-hour ozone attainment deadline for the Southern Mountain Counties and Western Nevada County nonattainment areas for an additional year until June 15, 2011 and to enable EPA, pursuant to section 181(b)(2) of the CAA, to determine that the areas attained the 1997 8-hour ozone NAAQS by their extended deadlines.

B. Determinations of Attainment by Areas' Applicable Attainment Dates

Pursuant to section 181(b)(2) of the CAA, EPA is determining that the Butte County, Central Mountain Counties, Eastern Kern, Southern Mountain Counties, Sutter Buttes, and Western Nevada County ozone nonattainment areas attained the 1997 8-hour ozone NAAQS by their applicable attainment dates.

These determinations discharge EPA's obligations under section 181(b)(2) with respect to determining whether these areas attained by their respective attainment deadlines, and establish that these areas are not subject to reclassification for failure to attain by these deadlines.

C. Determinations of Current Attainment and 40 CFR 51.918

In addition, EPA is separately determining that the six CA areas and Ventura County have attained the standard based upon the most recent three years of data (without reference to their attainment deadlines). Under the provisions of 40 CFR 51.918, these determinations of attainment suspend the obligation for the State to submit certain planning requirements described above; however, they do not constitute redesignations to attainment under section 107(d)(3) of the CAA. The designation status of the six CA areas and Ventura County remains nonattainment for the 1997 8-hour ozone NAAQS until such time as EPA determines that each area meets the CAA requirements for redesignation to attainment, including an approved maintenance plan.

In accordance with 40 CFR 51.918, based on these determinations, the obligation under the CAA for the State of California to submit an attainment demonstration and reasonably available control measures (RACM), reasonable further progress plans (RFP), contingency measures, and any other planning requirements related to attainment of the 1997 8-hour ozone NAAQS for these seven ozone nonattainment areas is suspended for so long as the areas continue to attain the 1997 8-hour ozone NAAQS.

The suspension continues until such time, if any, that EPA (i) redesignates the area to attainment at which time those requirements no longer apply, or (ii) subsequently determines that the area has violated the 1997 8-hour ozone NAAQS. It is separate from, and does not influence or otherwise affect, any future designation determination or requirements for the area based on any new or revised ozone NAAQS. It remains in effect regardless of whether EPA designates the area as a nonattainment area for purposes of any new or revised ozone NAAQS.

If EPA subsequently determines, after notice-and-comment rulemaking, that any one of these nonattainment areas has violated the 1997 8-hour ozone NAAQS, the basis for the suspension of the requirements for that area, provided by 40 CFR 51.918, would no longer exist, and the violating ozone nonattainment area would thereafter have to address those requirements.

V. EPA's Final Actions

Based on the information and rationale presented in the direct final rule and in this notice of final rulemaking and after due consideration of all comments received, EPA is taking final action to make a number of determinations for certain areas in California for the 1997 8-hour ozone NAAQS.

First, pursuant to section 181(b)(2), EPA is determining that six 8-hour ozone nonattainment areas in California [Amador and Calaveras Counties (Central Mountain Counties), Chico (Butte County), Kern County (Eastern Kern), Mariposa and Tuolumne Counties (Southern Mountain Counties), Nevada County (Western Nevada County), and Sutter County (Sutter Buttes)] attained the 1997 8-hour ozone NAAQS by their respective applicable attainment dates based on complete, quality-assured, and certified ambient air quality monitoring data. Second, in conjunction with its determinations for Southern Mountain Counties and Western Nevada County, EPA is determining that these areas qualified for one-year extensions and is granting these extensions under CAA section 181(a)(5) and 40 CFR 51.907.

Specifically, for Butte County and Sutter Buttes, EPA is determining that these areas attained the 1997 8-hour ozone standard by their applicable attainment deadline of June 15, 2007, based on complete, quality-assured, and certified ambient air quality monitoring data for 2004-2006. For the Central Mountain Counties and Eastern Kern ozone nonattainment areas, EPA is determining that they attained the 1997 8-hour ozone standard by their applicable attainment deadline of June 15, 2010, based on complete, quality-assured and certified air quality data for 2007-2009. For the Southern Mountain Counties and Western Nevada County, whose original attainment date was June 15, 2010, EPA is granting a one-year attainment date extension until June 15, 2011 and determining that these areas attained the 1997 8-hour ozone NAAQS by that extended attainment date, based on complete, quality-assured data for 2008-2010.

Third, EPA is separately determining that Central Mountain Counties, Butte County, Eastern Kern, Southern Mountain Counties, Western Nevada County, Sutter Buttes, and Ventura County have each attained the 1997 8-hour ozone standard based on the most recent three years of complete, quality-assured, and certified data for 2009-2011. Preliminary data available for 2012 show that these areas continue to attain the standard. As provided in 40 CFR 51.918, these determinations of attainment suspend the requirements for the State of California to submit, for each of these seven ozone nonattainment areas, an attainment demonstration and associated RACM, RFP plan, contingency measures, and any other planning requirements related to attainment of the 1997 8-hour ozone NAAQS, for as long as the areas continue to attain the 1997 8-hour ozone NAAQS.

VI. Statutory and Executive Order Reviews

These actions make determinations of attainment based on air quality, result in the suspension of certain federal requirements, grant attainment date extensions, and/or would not impose additional requirements beyond those imposed by state law. For that reason, these actions:

• Are not “significant regulatory actions” subject to review by the Office of Management and Budget under Executive Order 12866 (58 FR 51735, October 4, 1993);

• Do not impose an information collection burden under the provisions of the Paperwork Reduction Act (44 U.S.C. 3501 et seq.);

• Are certified as not having a significant economic impact on a substantial number of small entities under the Regulatory Flexibility Act (5 U.S.C. 601 et seq.);

• Do not contain any unfunded mandate or significantly or uniquely affect small governments, as described in the Unfunded Mandates Reform Act of 1995 (Pub. L. 104-4);

• Do not have Federalism implications as specified in Executive Order 13132 (64 FR 43255, August 10, 1999);

• Are not economically significant regulatory actions based on health or safety risks subject to Executive Order 13045 (62 FR 19885, April 23, 1997);

• Are not significant regulatory actions subject to Executive Order 13211 (66 FR 28355, May 22, 2001);

• Are not subject to requirements of Section 12(d) of the National Technology Transfer and Advancement Act of 1995 (15 U.S.C. 272 note) because application of those requirements would be inconsistent with the CAA; and

• Do not provide EPA with the discretionary authority to address disproportionate human health or environmental effects with practical, appropriate, and legally permissible methods under Executive Order 12898 (59 FR 7629, February 16, 1994).

In addition, these actions do not have Tribal implications as specified by Executive Order 13175 (65 FR 67249, November 9, 2000), because the SIP obligations discussed herein do not apply to Indian Tribes and thus will not impose substantial direct costs on Tribal governments or preempt Tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by February 1, 2013. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen dioxide, Ozone, Reporting and recordkeeping requirements, Volatile organic compounds.

Dated: November 19, 2012.
Jared Blumenfeld,
Regional Administrator, Region IX.

Part 52, Chapter I, Title 40 of the Code of Federal Regulations is amended as follows:

PART 52—APPROVAL AND PROMULGATION OF IMPLEMENTATION PLANS

1. The authority citation for part 52 continues to read as follows:

Authority: 42 U.S.C. 7401 et seq.

Subpart F—California

2. Section 52.282 is amended by adding paragraph (e) to read as follows:

§ 52.282 Control Strategy and regulations: Ozone.

* * * * *

(e) Determinations of Attainment: Effective January 2, 2013.

(1) Approval of applications for extensions of applicable attainment dates. Under section 181(a)(5) of the Clean Air Act, EPA is approving the applications submitted by the California Air Resources Board dated March 23, 2010 and May 24, 2010 for extensions of the applicable attainment date for the Mariposa and Tuolumne Counties and Nevada County 8-hour ozone nonattainment areas, respectively, from June 15, 2010 to June 15, 2011.

(2) Determinations of attainment by the applicable attainment dates. EPA has determined that the Amador and Calaveras Counties, Chico, Kern County, Mariposa and Tuolumne Counties, Nevada County, and Sutter County 8-hour ozone nonattainment areas in California attained the 1997 8-hour ozone national ambient air quality standard (NAAQS) by their applicable attainment dates. The applicable attainment dates are as follows: Amador and Calaveras Counties (June 15, 2010), Chico (June 15, 2007), Kern County (June 15, 2010), Mariposa and Tuolumne Counties (June 15, 2011), Nevada County (June 15, 2011), and Sutter County (June 15, 2007).

(3) Determinations of attainment. EPA is determining that the Amador and Calaveras Counties, Chico, Kern County, Mariposa and Tuolumne Counties, Nevada County, Sutter County and Ventura County 8-hour ozone nonattainment areas have attained the 1997 8-hour ozone standard, based upon complete quality-assured data for 2009-2011. Under the provisions of EPA's ozone implementation rule (see 40 CFR 51.918), these determinations suspend the attainment demonstrations and associated reasonably available control measures, reasonable further progress plans, contingency measures, and other planning SIPs related to attainment for as long as the areas continue to attain the 1997 8-hour ozone standard. If EPA determines, after notice-and-comment rulemaking, that any of these areas no longer meets the 1997 ozone NAAQS, the corresponding determination of attainment for that area shall be withdrawn.

* * * * *

[FR Doc. 2012-29013 Filed 11-30-12; 8:45 am]

BILLING CODE 6560-50-P